DEPARTMENT OF COMMERCE

National Oceanic and Atmospheric Administration

50 CFR Parts 300, 600 and 660

[Docket No. 011231309-2090-03; I.D. 062702C]

Fisheries off West Coast States and in the Western Pacific; Pacific Coast Groundfish Fishery; Annual Specifications and Management Measures; Trip Limit Adjustments and Closures

AGENCY: National Marine Fisheries Service (NMFS), National Oceanic and Atmospheric Administration (NOAA), Commerce.

ACTION: Inseason trip limit adjustments and closures; request for comments.

SUMMARY: NMFS announces changes in the following trip limits for the Pacific Coast groundfish fisheries: limited entry groundfish trawl gear fisheries north of 40°10′ N. lat. and limited entry fixed gear, open access, and recreational fisheries south of 40°10′ N. lat. These actions, which are authorized by the Pacific Coast Groundfish Fishery Management Plan (FMP), are intended to prevent the fisheries from exceeding optimum yield (OY) and to protect the overfished species of darkblotched and bocaccio rockfish.

DATES: Changes to management measures are effective 0001 hours (local time) July 1, 2002, through the effective dates of the 2003 specifications and management measures for the Pacific Coast groundfish fishery, unless modified, superseded, or rescinded, by a subsequent rule which will be published in the Federal Register. Comments on this rule will be accepted through July 22, 2002

ADDRESSES: Submit comments to D. Robert Lohn, Administrator, Northwest Region, NMFS, 7600 Sand Point Way NE, Seattle, WA 98115-0070; or Rod McInnis, Acting Administrator, Southwest Region, NMFS, 501 West Ocean Blvd, Suite 4200, Long Beach, CA 90802-4213. This Federal Register document is available on the Government Printing Office’s website at: http://www.access.gpo.gov/su_docs/aces/aces140.html.

FOR FURTHER INFORMATION CONTACT: Carrie Nordeen or Becky Renko (Northwest Region, NMFS) 206-526-6140.

SUPPLEMENTARY INFORMATION:

Background

The Pacific Coast Groundfish FMP and its implementing regulations at 50 CFR part 660, subpart G, regulate fishing for over 80 species of groundfish off the coasts of Washington, Oregon, and California. Annual groundfish specifications and management measures are initially developed by the Pacific Fishery Management Council (Pacific Council), and are implemented by NMFS. The specifications and management measures for the current fishing year (January 1-December 31, 2002) were initially published in the Federal Register as an emergency rule for January 1-February 28, 2002 (67 FR 1540, January 11, 2002), and as a proposed rule for all of 2002 (67 FR 1555, January 11, 2002), then finalized effective March 1, 2002 (67 FR 10490, March 7, 2002). The final rule was subsequently amended at 67 FR 15338, April 1, 2002, at 67 FR 18117, April 15, 2002, at 67 FR 30604, May 7, 2002, and at 67 FR 40870, June 14, 2002.

The following changes to current groundfish management measures were recommended by the Pacific Council, in consultation with Pacific Coast Treaty Tribes and the States of Washington, Oregon, and California, at its June 18-21, 2002, meeting in Foster City, CA. Pacific Coast groundfish landings will be monitored throughout the year, and further adjustments will be made as necessary to allow achievement of or avoid exceeding the 2002 OYs and allocations.

Management Measures North of 40°10′ N. lat.

Darkblotched rockfish, an overfished species, are typically encountered along the central Pacific Coast (Oregon and northern California)and occur at depths between 180 m and 360 m along the continental slope. Both adult and juvenile darkblotched rockfish are associated with mud and rock habitats. Adults move to deeper water as they increase in size and age; they are typically observed resting on mud, near cobble and boulders and do not often rise above the ocean floor.

Darkblotched rockfish are harvested by several sectors of the groundfish fishery and have experienced higher than expected landing during the first four months of 2002. Due to its overfished status, darkblotched rockfish is not managed as a targeted species in the 2002 Pacific Coast groundfish fishery. However, it is known to co-occur with several groundfish species that are directly targeted by the fishery. For example, Dover sole and petrale sole seasonally occupy areas and depths where darkblotched rockfish are found. This leads to an increased catch of darkblotched rockfish when Dover sole and petrale sole are targeted during this time. In order to allow the darkblotched rockfish stock to rebuild, inseason adjustments for target species that co-occur with darkblotched rockfish are necessary to minimize both the catch of darkblotched rockfish.

Management measures in 2002, which were intended to keep the darkblotched rockfish catch within its OY, include small cumulative trip limits of darkblotched rockfish that accommodate incidental catch but discourage targeting them. In addition, the 2002 management measures constrain northern DTS (Dover sole, thornyhead, sablefish) trawl fisheries during the November-December period to reduce the incidental catch of darkblotched rockfish. The management measures also constrain flatfish fisheries limits during the summer months when participation in the fishery is greatest and darkblotched rockfish are most likely to be encountered. Lower sablefish and Dover sole OYs are also expected to reduce the incidental take of darkblotched rockfish. On May 1, 2002, further action was taken by NMFS to reduce minor slope rockfish trip limits between 40°10′ N. lat. and 36° N. lat. for both the trawl and fixed gear limited entry fleets. This action was necessary as it reduced the catch of darkblotched rockfish while landings data were verified to determine if darkblotched rockfish were landed south of 40o10' N. lat during 2001.

For the 2002 specifications and management measures, NMFS introduced a new bycatch model for estimating rates that certain overfished species, including darkblotched rockfish, co-occur with healthier stocks that fishers specifically target. For the purpose of the bycatch model,“bycatch” is the term used to describe a species other than the target species, regardless of whether or not it was retained (landed, sold, or otherwise used) or discarded. Co-occurrence rates for darkblotched rockfish (the proportion of darkblotched rockfish in relation to the target species) used in the bycatch model were in part based on landings data reported on fish tickets. Upon re-evaluation of fish ticket data it was determined that the darkblotched rockfish landings from waters between 40°10′ N. lat. and 36° N. lat. (Monterey management area) were not incorporated into the initial bycatch model. As a result, catch projections for darkblotched rockfish based on the initial model were lower than what may have actually occurred in the target fisheries in the Monterey area. Because of this new information, significant landings of darkblotched rockfish were projected south of 40°10′ N. lat. during the first six months of 2002. Therefore, NMFS promulgated measures to reduce darkblotched rockfish landings on May 1, 2002, and this approach reduced darkblotched rockfish landings south of 40°10′ N. lat. NMFS and the Pacific Council manage the coastwide groundfish fisheries to minimize opportunities for incidental darkblotched rockfish catch so as to not exceed the darkblotched rockfish OY, which is set at a level that is intended to rebuild the stock.

At the June Pacific Council meeting, the best available science indicated that landings of darkblotched rockfish in 2002 were greater than projected. Coastwide commercial landings through June 8, 2002 were between 73 mt and 98 mt which represents 56 percent to 75 percent of the darkblotched rockfish landed catch OY (not including catch in the at-sea whiting sector). As of June 8, 2002, approximately 30 mt were landed south of 40°10′ N. lat. Due to the magnitude of catches earlier in the year combined with projected darkblotched rockfish bycatch from the area north of 40°10′ N. lat., and landings and estimated discards from the area south of 40°10′ N. lat., the projected year-end catch of darkblotched rockfish, under the current trip limit schedule, would exceed the rebuilding OY of 168 mt by approximately 35-40 mt.

In order to prevent the commercial fleet from exceeding the darkblotched rockfish OY, the Pacific Council recommended the following management measures: a small footrope requirement, changes to trip limits, and area closures. These management measures are designed to limit the darkblotched rockfish catch to 160 mt, which is within the 2002 darkblotched rockfish OY of 168 mt.

Limited Entry Trawl Small Footrope Requirement North of 40°10′ N. lat.

Due to concern about the incidental catch of darkblotched rockfish in the limited entry trawl fishery, the Pacific Council recommended eliminating the large footrope bottom trawl option for the remainder of the year. Beginning July 1, all vessels using bottom trawl gear must use a small footrope bottom trawl in order to reduce the incidental harvest of darkblotched rockfish. This small footrope bottom trawl requirement is expected to discourage fishing effort in the rocky habitat which darkblotched rockfish are believed to inhabit, thereby, reducing the interception of darkblotched rockfish, while allowing bottom trawl fisheries to continue through August.

Limited Entry Trawl and Limited Entry Fixed Gear Limits for Pacific Ocean Perch (POP) North of 40°10′ N. lat.

Much like darkblotched rockfish, POP are found in waters along the edge of the continental shelf, as well as in the waters of the upper continental slope. Because darkblotched rockfish and POP are both found along the shelf and associated with the ocean floor, darkblotched rockfish are taken as bycatch in the slope rockfish fishery along with POP.

In an effort to discourage targeting on POP but to allow for the incidental catch of POP in other slope fisheries, the Pacific Council recommended reducing trip limits for POP. Beginning July 1, the limited entry trawl and limited entry fixed gear limits for POP north of 40°10′ N. lat. will be reduced from 4,000 lb (1,814 kg) per month to 4,000 lb (1,814 kg) per 2 months. This reduction in POP trip limits is part of the Pacific Council’s efforts to reduce the harvest of deepwater species so as to decrease the likelihood that darkblotched rockfish will be taken in fisheries targeting other deepwater species.

Limited Entry Bottom Trawl Closure North of 40°10′ N. lat.

Implementing a small footrope requirement in the limited entry trawl fishery and reducing the cumulative limit of POP, as described above, is expected to aid in reducing the interception of darkblotched rockfish. However, these measures alone may not be adequate to keep the 2002 darkblotched rockfish catch within its 168 mt OY, as the projected catch of darkblotched rockfish is still expected to be approximately 160 mt by the end of August. As a further precautionary measure to keep darkblotched rockfish within the 2002 OY and allow rebuilding of the stock, beginning September 1, it will be prohibited to prosecute any groundfish fishery north of 40o10' N. lat. with bottom trawl gear (small or large footrope).

The Pacific Council held a prolonged debate weighing the need to close fisheries in which darkblotched rockfish are taken incidentally versus the economic difficulties that would be felt in fishing communities that depend on groundfish income. In particular, the Pacific Council and the public were frustrated that the current management measure process does not allow fisheries for healthy stocks to occur in areas where darkblotched rockfish are not commonly found. Under the FMP, new groundfish management measures, including area restrictions, must be considered in a two-meeting process before implementation. New types of management measures are usually introduced in the two-meeting process used to develop annual specifications and management measures.

When reviewing 2002 landings data and historical survey data for darkblotched rockfish, the Pacific Council found that deepwater fisheries where the incidental take of darkblotched rockfish occurs tend to be prosecuted inshore of the 200 fathom depth contour. DTS species tend to be available to vessels operating offshore of 200 fathoms, particularly during the fall and winter months. Because of the FMP’s process requirements for introducing new management measures, the Pacific Council understood that they could not craft new depth-based fishery restrictions through the usual specifications and management measures for a July 1 implementation. Using the two-meeting process, depth-based restrictions allowing the harvest of healthy stocks offshore of areas where darkblotched rockfish typically occur would likely not be in place until October 1, 2002, following the June and September Pacific Council meetings. To expedite fisheries access to deepwater stocks, the Pacific Council has requested NOAA consider depth-based restrictions beginning September 1, 2002, via an emergency rule. If NOAA determines that an emergency rule is necessary and appropriate, NMFS will announce the action in the Federal Register.

Management Measures South of 40°10′ N. lat.

Another overfished rockfish species, with higher than projected landings for the first half of 2002, is bocaccio rockfish. Bocaccio are widespread throughout central and southern California. Larvae can be found far from shore in the upper 10 m of the water column, juveniles often occur in shallow, nearshore waters, and adults move into deeper water (depths ranging from 50 - 300 m) along the continental shelf as they age. Because bocaccio are found in a broad range of depths and habitats throughout their life cycle, bocaccio are frequently intercepted in Pacific Coast groundfish fisheries.

In order to allow the bocaccio stock to rebuild, precautionary management measures have been in place for bocaccio and those species that co-occur with bocaccio. In 2002, bottom trawl opportunities for shelf rockfish have been extremely limited, no landings of bocaccio rockfish are allowed with large footrope trawl gear, and small amounts of bocaccio, an unavoidable bycatch, taken with small footrope or midwater trawl gear were allowed to be landed in fisheries for healthy stocks. The chilipepper rockfish OY continues to be reduced to limit the incidental take of bocaccio. Additionally, California hook-and-line commercial fisheries have been closed during the same periods and in the same areas as the recreational fisheries and California maintained a rockfish bag limit of 10 fish, no more than 2 of which may be bocaccio rockfish.

As of June 8, 2002, the commercial landings of bocaccio rockfish were 21 mt, which represents 57 percent of the commercial harvest guideline. Although the commercial harvest is slightly higher than projected preseason, the estimated landings of bocaccio in the recreational fishery is of much greater concern. Recreational data estimates for the January - April period indicated that approximately 60 mt of bocaccio were taken. This estimated catch exceeds the 2002 recreational harvest guideline of 56 mt. By the end of June, the projected catch in the commercial and recreational fisheries combined may exceed the rebuilding OY of 100 mt and could approach or exceed the ABC of 122 mt. In order to allow the bocaccio stock to rebuild and prevent overfishing from occurring, the Pacific Council recommended that NMFS take the following actions to limit the harvest of bocaccio and co-occurring species.

Limited Entry Trawl and Exempted Open Access Trawl Limits for Groundfish (With the Exception of DTS, Minor Slope Rockfish, and Rex, Petrale, and English Sole Landed with DTS) South of 40°10′ N. lat.

Beginning July 1, the Pacific Council recommended that NMFS prohibit limited entry vessels from using trawl gear be prohibited south of 40°10′ N. lat. for all groundfish species except the deepwater DTS complex and minor slope rockfish.

In keeping with these measures, the amount of groundfish retention by vessels using exempted gear is also of concern. Typically only a few metric tons of bocaccio are taken with exempted gear. However, since the fleet is likely to harvest the bocaccio OY by the end of June, the Pacific Council recommended that NMFS prohibit the retention of groundfish in exempted trawl fisheries. Therefore, beginning July 1, it is prohibited to take and retain, possess, or land groundfish with exempted trawl gear south of 40°10′ N. lat.

Sablefish Minimum Size Requirements and Cumulative Limits for All Groundfish Fisheries South of 40°10′ N. lat.

In an effort to reduce fishing effort on the continental shelf where bocaccio are found and move vessels into deeper waters off the slope, the Pacific Council recommended reinstating the minimum 22 inch (56 cm) size requirement for sablefish taken with nontrawl gear and a reduced trip limit for sablefish under the 22 inch (56 cm) requirement taken with trawl gear. Larger sablefish tend to be found at greater depths, thus, prohibiting retention of small sablefish in the nontrawl fisheries and reducing the trip limit in the limited entry trawl fishery is expected to force vessels into deeper water when targeting sablefish. In the trawl fishery south of 40o10'N. lat., the currently scheduled cumulative sablefish limit of 3,000 lb (1,361 kg) per 2 months will remain in effect, with a per trip restriction of no more than 500 lb (227 kg) of sablefish smaller than 22 inches (56 cm). To encourage the non-trawl fisheries to also operate in deeper waters, currently scheduled limits will apply, but retention of sablefish smaller than 22 inches (56 cm) will be prohibited.

Limited Entry Fixed Gear, All Open Access Gears, and Recreational Limits for Groundfish Fisheries (With the Exception of Primary Sablefish and Slope Rockfish) South 40°10′ N. lat.

Because of the projected catch of bocaccio combined with bocaccio’s depth distribution and widespread co-occurrence with other groundfish species, the catch of bocaccio by limited entry fixed gear and open access fisheries is of concern. Therefore, the Pacific Council recommended that, beginning July 1, outside of 20 fathoms (36.9 m) it will prohibited to take and retain, possess, or land all groundfish species (with the exception of sablefish and slope rockfish) with fixed gear south of 40°10′ N. lat. In addition, beginning July 1, inside of 20 fm (36.9 m) it will be prohibited to take and retain, possess, or land minor shelf rockfish, bocaccio, and chilipepper rockfish south of 40°10′ N. lat. These inshore closures for shelf rockfish species are needed to further reduce bocaccio catch.

Because the estimated amount of bocaccio catch in the recreational fishery has been so high during the first few months of 2002, the Pacific Council also recommended a closure outside of 20 fm (36.9 m) in the recreational fishery. Therefore, beginning July 1, it is prohibited to take and retain, possess, or land rockfish and lingcod with recreational gear outside of 20 fathom (36.9 m) south of 40°10′ N. lat. In keeping with these management measures, the state of California will implement similar regulations effective by July 1, 2002.

Limited Entry Trawl, Limited Entry Fixed Gear, and Open Access Limits for Minor Slope Rockfish and Splitnose Rockfish Between 40°10′ N. Lat. and 36° N. lat.

The best available information indicates that landings of minor slope rockfish by limited entry and open access fisheries has been approximately 17 percent of the harvest guideline. The minor slope rockfish fisheries will continue at their currently scheduled trip limits for the July-August cumulative period to allow access to healthy minor slope rockfish stocks during summer months. However, in keeping with other management measures to reduce the catch of bocaccio and to ensure that trip limit reductions are distributed among the groundfish fleet, the Pacific Council recommended a reduction in trip limits for minor slope rockfish starting September 1, 2002. Therefore, minor slope rockfish limits between 40°10′ N. lat. and 36° N. lat. will be as follows: the limited entry trawl limit will be reduced from 50,000 lb (22,680 kg) per 2 months to 1,800 lb (816 kg) per 2 months; the limited entry fixed gear limit will be reduced from 25,000 lb (11,340 kg) per 2 months to 1,800 lb (816 kg) per 2 months; and the open access limit will be reduced from 10,000 lb (4,536 kg) per 2 months to 1,800 lb (816 kg) per 2 months.

2002 landings of splitnose rockfish during the first six months of 2002 have been approximately 29 mt or 7 percent of the landed catch OY. Because the Pacific Council is concerned about the economic impacts associated with the July 2002 inseason management measures, attempts to allow harvesting of healthy groundfish stocks are allowed when possible. Beginning September 1, retention of splitnose rockfish between 40°10′ N. lat. and 36° N. lat. will be restricted to 1,800 lb (816 kg) per 2 months for limited entry trawl, limited entry fixed gear, and open access.

Limited Entry Trawl and Limited Entry Fixed Gear Limits for Minor Slope Rockfish and Splitnose Rockfish South of 36° N. lat.

For reasons described above, cumulative limited entry trawl and limited entry fixed gear limits for minor slope and splitnose rockfish are being adjusted for September - December. Beginning September 1, limited entry limits for minor slope rockfish south of 36° N. lat. will be reduced as follows: the trawl limit will be reduced from 50,000 lb (22,680 kg) per 2 months to 15,000 lb (816 kg) per 2 months and the fixed gear limit will be reduced from 25,000 lb (11,340 kg) per 2 months to 15,000 lb (6,804 kg) per 2 months. Beginning September 1, limited entry limits for splitnose rockfish south of 36° N. lat. will be reduced as follows: the trawl limit will be reduced from 25,000 lb (11,340 kg) per 2 months to 15,000 lb (6,804 kg) per 2 months and the fixed gear limit will be reduced from 25,000 lb (11,340 kg) per 2 months to 15,000 lb (6,804 kg) per 2 months.

Limited Entry Trawl Limits for Rex Sole, Petrale, Sole, English Sole, Arrowtooth Flounder, and Other Flatfish South of 40°10′ N. lat.

To allow for retention of incidentally caught healthy flatfish stocks, the Pacific Council recommended an incidental catch allowance of rex sole, petrale sole, English sole, and arrowtooth flounder, beginning July 1, provided these fish are harvested and landed with the DTS complex. Therefore, beginning July 1, limited entry trawl flatfish limits for rex sole, petrale sole, English sole, and arrowtooth flounder, south of 40°10′ N. lat. will be 1,000 lb (454 kg) per trip if landed with DTS species. Flatfish landings must not exceed landing of DTS and flatfish other than the four species cannot be retained as of July 1, 2002.

As discussed previously, the Pacific Council recommended that depth restrictions be incorporated in the Pacific Council’s suite of management options in an effort to minimize the economic impact of groundfish management measures on the Pacific Coast fishing industry. Depth restrictions would help shift fishing effort to areas and depths where overfished groundfish species are less likely to be encountered. This type of management measure should decrease the interception and landings of overfished species while allowing the harvest of healthy groundfish stocks. These depth restrictions are a new type of management measure and need to be implemented via emergency rule. Because of the required timeline for an emergency rule, depth restrictions are not expected to be implemented before September 1, 2002.

At the September 9-13, 2002, Pacific Council meeting in Portland, Oregon, additional groundfish landing data will be available. The projected catch of both darkblotched rockfish and bocaccio will be re-assessed at this time. Based on this updated information, groundfish management measures for the remainder of 2002 will be adjusted accordingly. Additionally, the Pacific Council’s Groundfish Management Team (GMT) is scheduled to meet in early August. If the GMT projects that the darkblotched rockfish OY will be reached prior to the Pacific Council’s September meeting, a recommendation will be made to NMFS that it should restrict the fishery to eliminate the catch of darkblotched rockfish.

NMFS Actions

For the reasons stated here, NMFS concurs with the Pacific Council's recommendations and hereby announces the following changes to the 2002 specifications and management measures (67 FR 10490 March 7, 2002, as amended at 67 FR 15338 April 1, 2002, 67 FR 18117 April 15, 2002, 67 FR 30604 May 1, 2002, 67 FR 40870 June 14, 2002) to read as follows:

1. On page 10511, in column 1, in section IV. under A. General Definitions and Provisions,, paragraph (d) is revised to read as follows:

* * * * *

(d) Sablefish size and weight limit conversions. The following conversions apply to both the limited entry and open access fisheries when size and trip limits are effective for those fisheries. For headed and gutted (eviscerated) sablefish:

(i) The minimum size limit for headed sablefish, which corresponds to 22 inches (56 cm) TL for whole fish, is 15.5 inches (39 cm).

(ii) The conversion factor established by the state where the fish is or will be landed will be used to convert the processed weight to round weight for purposes of applying the trip limit. (The conversion factor currently is 1.6 in Washington, Oregon, and California. However, the state conversion factors may differ: fisher should contact fishery enforcement officials in the state where the fish will be landed to determine that state’s official conversion factor.)

* * * * *

2. On page 10513, in column 1, in section IV. under A. General Definitions and Provisions, paragraph (14(b)(iv) is revised to read as follows:

* * * * *

(iv) More than one type of trawl gear on board. The cumulative trip limits in Table 3 must not be exceeded. When fishing in areas where the use of a particular type of trawl gear [Example: large footrope gear] is prohibited, a fisher may not have more than one gear type on board. When fishing in areas where trawling is not restricted, a fisher may have more than one type of trawl gear on board, but the most restrictive trip limit associated with the gear on board applies for that trip and will count toward the cumulative trip limit for that gear. [Example: If a vessel has large footrope gear on board, it cannot land yellowtail rockfish, even if the yellowtail rockfish is caught with a small footrope trawl. If a vessel has both small footrope trawl and midwater trawl gear on board, the landing is attributed to the most restrictive gear-specific limit, regardless of which gear type was used.

* * * * *

3. On page 10517, in section IV, under B. Limited Entry Fishery, at the end of paragraph (1), Tables 3 and 4 are revised to read as follows:

IV. NMFS Actions

B. Limited Entry Fishery

(1) * * *

BILLING CODE 3510-22-S

* * * * *

4. On page 10519 in section IV., under C. Trip Limits in the Open Access Fishery, at the end after paragraph (1), Table 5 is revised to read as follows:

IV. NMFS Actions

C. Trip Limits in the Open Access Fishery

(1) * * *

BILLING CODE 3510-22-C

5. On page 10521, in section IV., under C. Trip Limits in the Open Access Fishery, paragraph (2)(a) is revised to read as follows:

* * * * *

(i) (a) Trip limits. Beginning July 1, it is prohibited to take and retain, possess, or land any groundfish species with exempted trawl gear south of 40°10′ N. lat. The trip limit is 300 lb (136 kg) of groundfish per fishing trip north of 40°10′ N. lat. North of 40°10′ N. lat, limits in Table 5 also apply and are counted toward the 300 lb (136 kg) groundfish limit. In any landing by a vessel engaged in fishing for spot and ridgeback prawns, California halibut, or sea cucumbers with exempted trawl gear, the amount of groundfish landed may not exceed the amount of the target species landed, except that the amount of spiny dogfish (Squalas acanthias) landed may exceed the amount of target species landed. Spiny dogfish are limited by the 300 lb (136 kg) per trip overall groundfish limit. The daily trip limits for sablefish north of 40°10′ N. lat. may not be multiplied by the number of days of the fishing trip. The closures listed in table 5 also apply.

* * * * *

6. On page 10521, in column 3, in Section IV., under D. Recreational Fishery, paragraph (1)(9)(ii) is revised and on page 10522, in columns 1 and 2, under D. Recreational Fishery, paragraph (1)(a)(iii) is revised and paragraph (1)(b)(ii) is revised to read as follows:

* * * * *

(ii) Seasons. North of 40°10′ N. lat., recreational fishing for rockfish is open from January 1 through December 31. South of 40°10′ N. lat. and north of Point Conception (34° 27′ N. lat.), recreational fishing for rockfish is closed from March 1 through April 30, and from November 1 through December 31. This area is also closed to recreational rockfish fishing from May 1 through October 31, except that fishing for rockfish is permitted inside the 20 fm (37 m) depth contour, subject to the bag limits in paragraph (iii) of this section, except that bocaccio, canary rockfish and yelloweye rockfish retention is prohibited. South of Point Conception (34°27′ N. lat.), recreational fishing for rockfish is closed from January 1 through February 28 and from November 1 through December 31. This area is also closed to recreational rockfish fishing from July 1 through October 31, except that fishing for rockfish is permitted inside the 20 fm (37 m) depth contour, subject to bag limits in paragraph (iii) of this section, except that bocaccio, canary rockfish and yelloweye rockfish retention is prohibited. Recreational fishing for cowcod is prohibited all year in all areas.

(iii) Bag limits. boat limits, hook limits. In times and areas when the recreational season for rockfish is open, there is a 2-hook limit per fishing line, and the bag limit is 10 rockfish per day, of which no more than 2 may be bocaccio, no more than 1 may be canary rockfish, and no more than 1 may be yelloweye rockfish. No more than 2 yelloweye rockfish may be retained per vessel. Cowcod may not be retained. Bocaccio, canary rockfish, and yelloweye rockfish may not be retained, and no more than 2 shelf rockfish may be retained, in the area between 40°10′ N. lat. and Point Conception (34°27′ N. lat.) from May 1 through June 30, or in the area south of 40°10′ N. lat. from July 1 through October 31. (Note: California scorpionfish, are subject to California’s 10 fish bag limit per species, but are not counted toward the 10 rockfish bag limit.) Multi-day limits are authorized by a valid permit issued by California and must not exceed the daily limit multiplied by the number of days in the fishing trip.

* * * * *

(ii) Seasons. North of 40°10′ N. lat., recreational fishing for lingcod is open from January 1 through December 31. South of 40°10′ N. lat. and north of Point Conception (34°27′ N. lat.), recreational fishing for lingcod is closed from March 1 through April 30, and from November 1 through December 31. This area is also closed to recreational lingcod fishing from May 1 through October 31, except that fishing for lingcod is permitted inside the 20 fm (36.9 m) depth contour, subject to the bag limits in paragraph (iii) of this section. South of Point Conception (34° 27′ N. lat.), recreational fishing for lingcod is closed from January 1 through February 28 and from November 1 through December 31. This area is also closed to recreational lingcod fishing from May 1 through October 31, except that fishing for lingcod is permitted inside the 20 fm (36.9 m) depth contour, subject to the bag limits in paragraph (iii) of this section.

* * * * *

Classification

These actions are authorized by the Pacific Coast groundfish FMP and its implementing regulations, and are based on the most recent data available. The aggregate data upon which these actions are based are available for public inspection at the Office of the Administrator, Northwest Region, NMFS, (see ADDRESSES) during business hours.

The Assistant Administrator for Fisheries, NMFS, finds good cause to waive the requirement to provide prior notice and opportunity for public comment on this action pursuant to 5 U.S.C. 553(b)(B), because providing prior notice and opportunity for comment would be impracticable. It would be impracticable because the cumulative trip limit period for the Pacific Coast groundfish fishery begins July 1, 2002, and affording prior notice and opportunity for public comment would impede the agency’s function of managing fisheries to remain within the OY. Delaying implementation of these closures and trip limit reductions past July 1, 2002, may cause the catch of darkblotched rockfish to exceed its OY and may cause the catch of bocaccio rockfish to further exceed its OY and approach or exceed its ABC. Most of the trip limits adjustments in this document are reductions from the status quo. Decreases to trip limits and closures must be implemented in a timely manner to protect overfished and depleted groundfish species and to prevent the harvest of healthy stocks from exceeding the OY for 2002. Because the Pacific Coast groundfish fishery is managed by trip limits, most of which are based on a 2-month cumulative period (January-February, March-April, May-June, July-August, September-October, November-December), these actions should be implemented by the beginning of the next cumulative trip limit period (July 1, 2002). Delaying implementation of these closures and trip limit changes would allow fishers to harvest the higher trip limits that were previously scheduled for the July-August cumulative period. Allowing fishers to continue harvesting these higher trip limits or harvesting in an open fishery after the start of the cumulative trip limit period may cause the fisheries to exceed OYs for protected rockfish species. For these reasons, good cause also exists to waive the 30-day delay in effectiveness requirement of 5 U.S.C. 553 (d)(3).

These actions are taken under the authority of 50 CFR 300.63(a)(3) and 660.323(b)(1), and are exempt from review under Executive Order 12866.

Authority: 16 U.S.C. 773-773k; 1801 et seq.

Dated: June 28, 2002.
Dean Swanson,
Acting Director, Office of Sustainable Fisheries, National Marine Fisheries Service.

[FR Doc. 02-16811 Filed 7-1-02; 10:17 am]

BILLING CODE 3510-22-S